NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: September 10, 2020; 10:30 a.m.-5:00 p.m.; September 11, 2029; 10:30 a.m.-4:00 p.m.

Place: National Science Foundation, 2415 Eisenhower Avenue, Alexandria, Virginia 22314 (Virtual).

Type of Meeting: Open.

Contact Person: Andrew Backe, National Science Foundation, Room W 7237, 2415 Eisenhower Avenue, Alexandria, Virginia 22314; Phone 703-292-2454.

Minutes: May be obtained from the contact person listed above.

Purpose of Meeting: To provide advice and recommendations to the National Science Foundation concerning support for polar research, education, infrastructure and logistics, and related activities.

Agenda

September 10, 2020; 10:30 a.m.-5:00 p.m. (Virtual)

• COVID 19 Impacts

• Alaska Native Letter

• Discussion regarding Subcommittee on Diversity, Equity, & Inclusion

• Review of Antarctic Sciences Committee of Visitors (COV) Report

• USAP Polar Vessel Requirements Updates

• NSF GEO Activities Updates

September 11, 2020; 10:30 a.m.-4:00 p.m. (Virtual)

• Advisory Committee Liaison Updates

• Meeting with the NSF Director & Chief Operating Officer

• NSF Response to the Arctic Portfolio Review Updates

• Review of Arctic Sciences COV Report

Dated: August 4, 2020.
Crystal Robinson,
Committee Management Officer.

[FR Doc. 2020-17277 Filed 8-6-20; 8:45 am]

BILLING CODE 7555-01-P